SUSQUEHANNA RIVER BASIN COMMISSION

Commission Meeting

AGENCY: Susquehanna River Basin Commission.

ACTION: Notice.

SUMMARY: The Susquehanna River Basin Commission will conduct its regular business meeting on June 17, 2021, from Harrisburg, Pennsylvania. Details concerning the matters to be addressed at the business meeting are contained in the Supplementary Information section of this notice. Also the Commission published a document in the Federal Register on April 13, 2021, concerning its public hearing on May 6, 2021, in Harrisburg, Pennsylvania.

DATES: The meeting will be held on Thursday, June 17, 2021, at 9 a.m.

ADDRESSES: The meeting will be conducted digitally from the Susquehanna River Basin Commission, 4423 N Front Street, Harrisburg, PA 17110.

FOR FURTHER INFORMATION CONTACT: Jason E. Oyler, General Counsel and Secretary to the Commission, telephone: 717-238-0423; fax: 717-238-2436.

SUPPLEMENTARY INFORMATION: The business meeting will include actions or presentations on the following items: (1) Election of Commission officers for FY2022; (2) a resolution regarding environmental justice; (3) reconciliation of FY2022 budget; (4) ratification of contracts/grants; (5) proposed Water Resources program for 2022-2024; (6) amendments to the Comprehensive Plan for the Water Resources of the Susquehanna River Basin; and (7) Regulatory Program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

Due to the COVID-19 orders, the meeting will be conducted telephonically and there will be no physical public attendance. The public is invited to attend the Commission's business meeting. You can access the Business Meeting through a computer (Audio and Video) by following the link: https://srbc.webex.com/srbc/j.php?MTID=mfff80216a899be862056c07b1a4dce6b then enter meeting number 133 849 0863 and password U8wvzbbk2p5. You may also participant telephonically by dialing 1-877-668-4493 and entering the meeting number 133 849 0863 followed by the # sign.

Written comments pertaining to items on the agenda at the business meeting may be mailed to the Susquehanna River Basin Commission, 4423 North Front Street, Harrisburg, Pennsylvania 17110-1788, or submitted electronically through www.srbc.net/about/meetings-events/business-meeting.html. Such comments are due to the Commission on or before June 15, 2021. Comments will not be accepted at the business meeting noticed herein.

Authority: Pub. L. 91-575, 84 Stat. 1509 et seq., 18 CFR parts 806, 807, and 808.

Dated: May 7, 2021.
Jason E. Oyler,
General Counsel and Secretary to the Commission.

[FR Doc. 2021-10030 Filed 5-11-21; 8:45 am]

BILLING CODE 7040-01-P